DEPARTMENT OF ENERGY

Federal Energy Regulatory Commission

Combined Notice of Filings #2

Take notice that the Commission received the following electric rate filings:

Docket Numbers: ER11-3262-004.

Applicants: Trans Bay Cable LLC.

Description: Trans Bay Cable LLC submits tariff filing per 35: Withdrawing Filing 168 and resubmitting Filing 152 to be effective 6/30/2011.

Filed Date: 10/06/2011.

Accession Number: 20111006-5059.

Comment Date: 5 p.m. Eastern Time on Thursday, October 27, 2011.

Docket Numbers: ER11-4296-001.

Applicants: ITC Midwest LLC.

Description: ITC Midwest LLC submits tariff filing per 35.17(b): Amendment to Filing to be effective 10/12/2011.

Filed Date: 10/06/2011.

Accession Number: 20111006-5048.

Comment Date: 5 p.m. Eastern Time on Thursday, October 27, 2011.

Docket Numbers: ER12-23-000.

Applicants: Sierra Pacific Power Company.

Description: Sierra Pacific Power Company submits tariff filing per 35.13(a)(2)(i): Rate Schedule No. 27—Annual BPA-GTA Update 2011 to be effective 11/1/2011.

Filed Date: 10/05/2011.

Accession Number: 20111005-5000.

Comment Date: 5 p.m. Eastern Time on Wednesday, October 26, 2011.

Docket Numbers: ER12-34-000.

Applicants: Xcel Energy Services Inc., Northern States Power Company, a Wisconsin corporation.

Description: Report of Xcel Energy Services Inc.

Filed Date: 10/05/2011.

Accession Number: 20111005-5117.

Comment Date: 5 p.m. Eastern Time on Wednesday, October 26, 2011.

Docket Numbers: ER12-35-000.

Applicants: Choice Energy, LLC.

Description: Choice Energy, LLC submits tariff filing per 35.1: Baseline Filing to be effective 10/6/2011.

Filed Date: 10/06/2011.

Accession Number: 20111006-5057.

Comment Date: 5 p.m. Eastern Time on Thursday, October 27, 2011.

Docket Numbers: ER12-36-000.

Applicants: PacifiCorp.

Description: PacifiCorp filing of Storage Agreements.

Filed Date: 10/04/2011.

Accession Number: 20111004-5184.

Comment Date: 5 p.m. Eastern Time on Tuesday, October 25, 2011.

Docket Numbers: ER12-37-000.

Applicants: Smart Papers Holdings LLC.

Description: Smart Papers Holdings LLC submits tariff filing per 35.1: Smart Papers Holdings LLC MBR to be effective 10/6/2011.

Filed Date: 10/06/2011.

Accession Number: 20111006-5076.

Comment Date: 5 p.m. Eastern Time on Thursday, October 27, 2011.

Take notice that the Commission received the following electric securities filings:

Docket Numbers: ES11-49-000.

Applicants: Louisville Gas & Electric Company.

Description: Amendment to Application of Louisville Gas and Electric Company under ES11-49.

Filed Date: 10/05/2011.

Accession Number: 20111005-5114.

Comment Date: 5 p.m. Eastern Time on Monday, October 17, 2011.

Docket Numbers: ES12-2-000.

Applicants: KCP&L Greater Missouri Operations Company.

Description: Application for Authorization of Issuance of Long-Term Debt Securities Under Section 204 of the Federal Power Act of KCP&L Greater Missouri Operations Company.

Filed Date: 10/06/2011.

Accession Number: 20111006-5050.

Comment Date: 5 p.m. Eastern Time on Thursday, October 27, 2011.

Take notice that the Commission received the following public utility holding company filings:

Docket Numbers: PH12-1-000.

Applicants: South Jersey Industries, Inc.

Description: Notice of Material Change in Facts of South Jersey Industries, Inc.

Filed Date: 10/05/2011.

Accession Number: 20111005-5119.

Comment Date: 5 p.m. Eastern Time on Wednesday, October 26, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 6, 2011.
Nathaniel J. Davis, Sr.,
Deputy Secretary.

[FR Doc. 2011-26865 Filed 10-17-11; 8:45 am]

BILLING CODE 6717-01-P